DEPARTMENT OF COMMERCE

National Oceanic and Atmospheric Administration

[RTID 0648-XE807]

Endangered and Threatened Species; Take of Anadromous Fish

AGENCY: National Marine Fisheries Service (NMFS), National Oceanic and Atmospheric Administration (NOAA), Department of Commerce.

ACTION: Notice of issuance of permits.

SUMMARY: This notice advises the public that two direct take permits 1454-2R and 1455-2R have been issued for operation, monitoring, and evaluation of a hatchery program rearing and releasing sockeye salmon in the Snake River basin of Idaho, and that the decision documents are available upon request. An Environmental Assessment (EA), and Finding of No Significant Impact were also completed for these actions.

DATES: Permits 1454-2R and 1455-2R were issued on September 27, 2023, subject to certain conditions set forth therein. Subsequent to issuance, the necessary countersignatures by the applicants were received. The permits expire on September 27, 2026.

ADDRESSES: Requests for copies of the decision documents or any of the associated documents should be directed to the NMFS Sustainable Fisheries Division, 1201 NE Lloyd Blvd., Portland, OR 97232. The documents are also available on the internet at https://www.fisheries.noaa.gov/action/snake-river-sockeye-salmon-production-program.

FOR FURTHER INFORMATION CONTACT: Andreas Raisch at (503) 230-5405 or by email at andreas.raisch@noaa.gov.

SUPPLEMENTARY INFORMATION:

ESA-Listed Species Covered in This Notice

• Snake River Sockeye (Oncorhynchus nerka): endangered, naturally and artificially propagated.

• Chinook salmon (O. tshawytscha): threatened, naturally and artificially propagated;

○ Snake River Spring/Summer run: threatened, naturally and artificially propagated;

• Snake River Steelhead (O. mykiss): threatened, naturally and artificially propagated;

Background

Section 9 of the ESA and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under section 10(a)(1)(A) of the ESA (50 CFR 222.308).

The operators and funding agencies, including Idaho Department of Fish and Game, The Shoshone-Bannock Tribe, Oregon Department of Fish and Wildlife, NMFS's Northwest Fisheries Science Center and Bonneville Power Administration (BPA), submitted a Hatchery and Genetic Management Plan to NMFS pursuant to ESA Section 10(a)(1)(A) for hatchery activities in the Snake River basin (88 FR 53477, August 8, 2023). An EA was also prepared pursuant to the National Environmental Policy Act (NEPA) by NMFS for the Snake River sockeye salmon hatchery program.

The programs are intended to contribute to the survival and recovery of Snake River Sockeye salmon in the Snake River basin. The proposed program would maintain the Snake River sockeye salmon captive broodstock, collect and spawn adult sockeye salmon returning to the Snake River basin, rear juveniles, and release eggs, juveniles, and adult fish in upper Salmon River basin lakes as well as into Tanner Creek. The proposed continuation of the program would indicate best management practices to minimize adverse effects on the Snake River Sockeye Salmon Evolutionarily Significant Unit.

Authority: 16 U.S.C. 1531 et seq.

Dated: September 9, 2025.
Jennifer Quan,
Regional Administrator, West Coast Region, National Marine Fisheries Service.

[FR Doc. 2025-17636 Filed 9-11-25; 8:45 am]

BILLING CODE 3510-22-P